DEPARTMENT OF HOMELAND SECURITY

Coast Guard

[USCG-2011-0338]

Great Lakes Pilotage Advisory Committee

AGENCY: Coast Guard, DHS.

ACTION: Committee Management; Notice of Federal Advisory Committee Meeting.

SUMMARY: The Great Lakes Pilotage Advisory Committee (GLPAC) will meet on May 20, 2011, in Washington, District of Columbia. The meeting will be open to the public.

DATES: GLPAC will meet on Friday, May 20, 2011, from 9 a.m. to 4 p.m. Please note the meeting may close early if the committee completes its business. Written material and requests to make oral presentations or to have a copy of your material distributed to each member of the committee should reach us on or before May 16, 2011.

ADDRESSES: The meeting will be held at Coast Guard Headquarters, 2100 2nd Street Southwest, Washington, District of Columbia 20593, in conference room 51309. All visitors to Coast Guard Headquarters will have to pre-register to be admitted to the building. Please provide your name, telephone number and organization by close of business on May 16, 2011, to the contact person listed in FOR FURTHER INFORMATION CONTACT below. Additionally, all visitors to Coast Guard Headquarters must produce valid photo identification for access to the facility.

For information on facilities or services for individuals with disabilities or to request special assistance at the meeting, contact Mr. David Dean as soon as possible.

To facilitate public participation, we are inviting public comment on the issues to be considered by the committee as listed in the “Agenda” section below. Comments must be submitted in writing no later than May 16, 2011, and must be identified by [USCG-2011-0338] and may be submitted by one of the following methods:

• Federal eRulemaking Portal: http://www.regulations.gov. Follow the instructions for submitting comments.

• E-mail: David.J.Dean@uscg.mil. Include the docket number in the subject line of the message.

• Fax: (202)372-1909.

• Mail: Commandant (Cg-5522,) Attn: GLPAC ADFO, US Coast Guard, 2100 2nd St., SW., Stop 7580, Washington, DC 20593-7580.

Instructions: All submissions received must include the words “Department of Homeland Security” and the docket number for this action. Comments received will be posted without alteration at http://www.regulations.gov, including any personal information provided.

Docket: For access to the docket to read documents or comments related to this notice, go to http://www.regulations.gov.

A public comment period will be held during the meeting on May 20, 2011, from 10 a.m. to 11 a.m., and speakers are requested to limit their comments to 5 minutes. Please note that the public comment period may end before the time indicated, following the last call for comments. Contact the individual listed below to register as a speaker.

FOR FURTHER INFORMATION CONTACT: Mr. David Dean, GLPAC Assistant Designated Federal Officer (ADFO), Commandant (CG-5522), U.S. Coast Guard Headquarters, 2100 Second Street, SW., Stop 7580, Washington, DC 20593-7580; telephone 202-372-1533, fax 202-372-1909, or e-mail at David.J.Dean@uscg.mil.

SUPPLEMENTARY INFORMATION: Notice of this meeting is given under the Federal Advisory Committee Act, 5 U.S.C. App. (Pub. L. 92-463). It was established under the authority of 46 U.S.C. 9307, and advises the Secretary of Homeland Security and the Coast Guard on Great Lakes pilot registration, operating requirements, training policies, and pilotage rates and other matters relating to Great Lakes pilotage.

GLPAC expects to meet twice per year but may also meet at other times at the call of the Secretary. Further information about GLPAC is available by searching on “Great Lakes Pilotage Advisory Committee” at http://www.fido.gov/facadatabase/.

Agenda

The GLPAC will meet to review, discuss and formulate recommendations on the following issues:

Old Business:

Discussion of bridge hour analysis that reflects the actual pilotage time on task including bridge hours, standby time, travel time and delay/detention time using historical traffic records.

New Business:

Review of bridge hour calculations, a measure of pilotage hours and a key factor in determining pilotage rates;

Review of the methodology used to determine annual pilotage rates;

Implementation of a 2010 GLPAC recommendation to modify the methodology for reviewing pilotage rates every fifth year so that it can be applied on a partial basis to recognize major expenses incurred between fifth year reviews;

Discussion of the future role of the Great Lakes Pilotage Electronic Management System, as well as the current uses of the software for dispatching and billing.

Dated: April 26, 2011.
Dana A. Goward,
Director Marine Transportation Systems Management, U.S. Coast Guard.

[FR Doc. 2011-10512 Filed 4-29-11; 8:45 am]

BILLING CODE 9110-04-P